DEPARTMENT OF COMMERCE

National Oceanic and Atmospheric Administration

[I.D.121401C]

Marine Mammals; File No. 555-1565

AGENCY: National Marine Fisheries Service (NMFS), National Oceanic and Atmospheric Administration (NOAA), Commerce.

ACTION: Receipt of application for amendment.

SUMMARY: Notice is hereby given that James Harvey, Ph.D., Moss Landing Marine Laboratories, P.O. Box 450, Moss Landing, CA 95039, has requested an amendment to scientific research Permit No. 555-1565.

DATES: Written or telefaxed comments must be received on or before February 7, 2002.

ADDRESSES: The amendment request and related documents are available for review upon written request or by appointment in the following office(s):

Permits, Conservation and Education Division, Office of Protected Resources, NMFS, 1315 East-West Highway, Room 13705, Silver Spring, MD 20910; phone (301)713-2289; fax (301)713-0376;

Northwest Region, NMFS, 7600 Sand Point Way NE, BIN C15700, Bldg. 1, Seattle, WA 98115-0700; phone (206)526-6150; fax (206)526-6426; and

Southwest Region, NMFS, 501 West Ocean Blvd., Suite 4200, Long Beach, CA 90802-4213; phone (562)980-4001; fax (562)980-4018.

Written comments or requests for a public hearing on this request should be submitted to the Chief, Permits, Conservation and Education Division, F/PR1, Office of Protected Resources, NMFS, 1315 East-West Highway, Room 13705, Silver Spring, MD 20910. Those individuals requesting a hearing should set forth the specific reasons why a hearing on this particular amendment request would be appropriate.

Comments may also be submitted by facsimile at (301)713-0376, provided the facsimile is confirmed by hard copy submitted by mail and postmarked no later than the closing date of the comment period. Please note that comments will not be accepted by e-mail or other electronic media.

FOR FURTHER INFORMATION CONTACT: Amy Sloan or Ruth Johnson, (301)713-2289.

SUPPLEMENTARY INFORMATION: The subject amendment to Permit No. 555-1565, issued on September 29, 2000 (65 FR 60411) is requested under the authority of the Marine Mammal Protection Act of 1972, as amended (16 U.S.C. 1361 et seq.), and the Regulations Governing the Taking and Importing of Marine Mammals (50 CFR part 216).

Permit No. 555-1565 authorizes the permit holder to study the distribution, ecological role, health, and behavior of harbor seals (Phoca vitulina) along the west coast of North America via capture, tagging, marking, and biological sampling, and performing vocalization playback experiments. The Permit also authorizes research on harbor seals in rehabilitation, including captive feeding studies to quantify biases associated with using fecal samples for diet analysis, and surgical implantation of radio tags to determine the efficacy of using such tags for application to the wild population for monitoring animal movements. The permit holder requests authorization to collect from the wild up to 8 harbor seals per year for use in the captive feeding studies and release them back to the wild after approximately 6 months in captivity; conduct feeding experiments on 10 California sea lions (Zalophus californianus) undergoing rehabilitation; and harass up to 2000 California sea lions per year at haul-out sites throughout central California for scat collection.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of this application to the Marine Mammal Commission and its Committee of Scientific Advisors.

Dated: December 31, 2001.
Ann D. Terbush,
Chief, Permits, Conservation and Education Division, Office of Protected Resources, National Marine Fisheries Service.

[FR Doc. 02-439 Filed 1-7-02; 8:45 am]

BILLING CODE 3510-22-S